DEPARTMENT OF COMMERCE

National Oceanic and Atmospheric Administration

RIN 0648-XE525

Endangered and Threatened Species; Take of Anadromous Fish; Reopening of Comment Period

AGENCY: National Marine Fisheries Service (NMFS), National Oceanic and Atmospheric Administration (NOAA), Department of Commerce.

ACTION: Notice; availability of hatchery plan and request for comment; reopening of public comment period.

SUMMARY: On March 28, 2016, the National Marine Fisheries Service (NMFS) announced the availability of a Hatchery and Genetic Management Plan (HGMP) pursuant to the protective regulations promulgated for Pacific salmon and steelhead under the Endangered Species Act (ESA). The HGMP, provided by the California Department of Fish and Wildlife, specifies the operation of a hatchery program rearing steelhead in the Mad River subbasin within the State of California. The announcement opened a 30-day public comment period on the HGMP and associated draft environmental assessment (EA). In response to a request received from the public, NMFS is reopening the comment period for an additional 15 days. This action reopens the comment period for the notice that published March 28, 2016.

DATES: The comment period for the notice that published on March 28, 2016 (81 FR 17143) is reopened. Comments must be received at the appropriate address or fax number (see ADDRESSES) no later than 5:00 p.m. Pacific time on May 19, 2016.

ADDRESSES: Written comments on the application should be addressed to the NMFS NOAA Fisheries West Coast Region California Coastal Office, 1655 Heindon Road, Arcata, California 95521, or faxed to 707-825-4840. Comments may be submitted by email. The mailbox address for providing email comments is: MadRiverHatcheryPlan.wcr@noaa.gov. Include in the subject line of the email comment the following identifier: Comments on the Mad River hatchery plan. The HGMP and associated draft EA are available on the Internet at www.westcoast.fisheries.noaa.gov.

FOR FURTHER INFORMATION CONTACT: Dan Free, at phone number: (707) 825-5164, or via email: dan.free@noaa.gov.

SUPPLEMENTARY INFORMATION:

Reopening

The notice (81 FR 17143) published in the Federal Register on March 28, 2016, with a 30-day comment period that closed on April 27, 2016. In response to a request received from the public, NMFS is reopening the comment period for an additional 15 days.

Species Covered in This Notice

Chinook salmon (Oncorhynchus tshawytscha): threatened, naturally produced and artificially propagated California Coastal.

Coho salmon (O. kisutch): threatened, naturally produced and artificially propagated Southern Oregon/Northern California (SONCC).

Steelhead (O. mykiss): threatened, naturally produced and artificially propagated Northern California.

Background

CDFW has submitted to NMFS an HGMP describing a hatchery program that releases steelhead into the Mad River, in northern California, for consideration pursuant to limit 5 of the ESA 4(d) rule for salmon and steelhead.

The hatchery program that is the subject of the NMFS evaluation would operate to provide steelhead for harvest in freshwater recreational fisheries in the Mad River. The program would propagate steelhead that are derived from the local steelhead population in the Mad River, ensuring that at least half of the MRH winter-run steelhead spawning pairs are hatchery spawned natural-origin and to match natural-origin steelhead with their natural counterparts whenever possible. Measures would be applied in the hatchery program to reduce the risk of incidental adverse genetic, ecological, and demographic effects on natural-origin steelhead and salmon populations.

As specified in the July 10, 2000, ESA 4(d) rule for salmon and steelhead (65 FR 42422) and updated June 28, 2005 (70 FR 37160), NMFS may approve an HGMP if it meets criteria set forth in 50 CFR 223.203(b)(5)(i)(A) through (K). Prior to final approval of an HGMP, NMFS must publish notification announcing its availability for public review and comment.

Authority

Under section 4 of the ESA, the Secretary of Commerce is required to adopt such regulations as she deems necessary and advisable for the conservation of species listed as threatened. The ESA salmon and steelhead 4(d) rule (65 FR 42422, July 10, 2000, as updated in 70 FR 37160, June 28, 2005) specifies categories of activities that contribute to the conservation of listed salmonids and sets out the criteria for such activities. Limit 5 of the updated 4(d) rule (50 CFR 223.203(b)(5)) further provides that the prohibitions of paragraph (a) of the updated 4(d) rule (50 CFR 223.203(a)) do not apply to activities associated with artificial propagation programs provided that an HGMP has been approved by NMFS to be in accordance with the salmon and steelhead 4(d) rule (65 FR 42422, July 10, 2000, as updated in 70 FR 37160, June 28, 2005).

Dated: April 28, 2016.
Angela Somma,
Chief, Endangered Species Division, Office of Protected Resources, National Marine Fisheries Service.

[FR Doc. 2016-10380 Filed 5-3-16; 8:45 am]

BILLING CODE 3510-22-P